DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for projects in the following locations: Los Angeles County, CA; San Antonio, TX; Prince George's County, MD; and Chicago, IL. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of the FTA actions announced herein for the listed public transportation project will be barred unless the claim is filed on or before March 21, 2013.

FOR FURTHER INFORMATION CONTACT: Nancy-Ellen Zusman, Assistant Chief Counsel, Office of Chief Counsel, (312) 353-2577 or Terence Plaskon, Environmental Protection Specialist, Office of Human and Natural Environment, (202) 366-0442. FTA is located at 1200 New Jersey Avenue SE., Washington, DC 20590. Office hours are from 9:00 a.m. to 5:30 p.m., EDT, Monday through Friday, except Federal holidays.

SUPPLEMENTARY INFORMATION: Notice is hereby given that FTA has taken final agency actions by issuing certain approvals for the public transportation projects listed below. The actions on these projects, as well as the laws under which such actions were taken, are described in the documentation issued in connection with the project to comply with the National Environmental Policy Act (NEPA) and in other documents in the FTA administrative record for the projects. Interested parties may contact either the project sponsor or the relevant FTA Regional Office for more information on the project. Contact information for FTA's Regional Offices may be found at http://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period of 180 days for challenges of project decisions subject to previous notices published in the Federal Register. For example, this notice does not extend the limitation on claims announced for earlier decisions on the Crenshaw/LAX Transit Corridor Project. The projects and actions that are the subject of this notice are:

1. Project name and location: Crenshaw/LAX Transit Corridor Project, Los Angeles, CA. Project sponsor: Los Angeles County Metropolitan Transportation Authority (LACMTA). Project description: The project will extend from the existing Metro Exposition Line at Crenshaw and Exposition Boulevards and travel 8.5 miles to the Metro Green Line's Aviation/LAX Station. The project includes six transit stations, a vehicle maintenance storage facility, park-and-ride lots, traction power substations, and the acquisition of rail vehicles and maintenance equipment. Modifications to the project design have occurred during the preliminary engineering phase to reduce cost, reduce right-of-way impacts, reduce utility impacts, improve light rail transit operations, and improve traffic circulation and pedestrian crossings. The project modifications include a shift in the location of the optional Crenshaw/Vernon Station and Florence/Hindry Station (formerly Manchester/Aviation Station), street/driveway/sidewalk modifications, pedestrian crossing improvements, and a shift of a portion of the alignment into the former Burlington Northern Santa Fe right-of-way. This would require demolition of two railroad bridges and partial acquisitions. This action is on the September 2012 Finding of No Significant Impact. Nothing in this notice affects FTA's previous decisions, or notice thereof, for this project. More specifically, the statute of limitations for the approvals documented in the project's December 30, 2011 Record of Decision and the environmental documents on which it is based expired on August 6, 2012, as noticed in the Federal Register on February 8, 2012 (77 FR 6624). This notice only applies to the actions taken by FTA at this time as described below. Final agency actions: no use of Section 4(f) resources; Section 106 finding of no adverse effect; project-level air quality conformity; and Finding of No Significant Impact (FONSI), dated September 4, 2012. Supporting documentation: Supplemental Environmental Assessment, dated July 2, 2012.

2. Project name and location: Westside Multimodal Transit Center—Phase II, San Antonio, TX. Project sponsor: VIA Metropolitan Transit (VIA). Project description: The project will construct a transit plaza on a 2.1-acre tract of land (1 block) to the east of and in close proximity to the site of the first phase of the project, incorporating the Washington Hotel structure that currently exists on the tract. The transit plaza would provide connectivity from the existing city bus system and could provide future high capacity transit corridors and inter-city bus service, Amtrak, taxi, and streetcar service. Final agency actions: Determination of de minimis impact to one Section 4(f) resource; Section 106 finding of no adverse effect; project-level air quality conformity; and Finding of No Significant Impact (FONSI), dated August 24, 2012. Supporting documentation: Supplemental Environmental Assessment, dated July 19, 2012.

3. Project name and location: JD to Jones Hill Double Tracking, Prince George's County, MD. Project sponsor: Maryland Transit Administration. Project description: The project will improve a two-mile stretch of railroad between Decatur Street and a point north of Frolich Road. Improvements include construction of a second track, the shifting of the existing track, modification of the existing bridge, construction of an additional railroad bridge deck over the Northeast Branch of the Anacostia River, and other minor associated work. Final agency actions: Determination of de minimis impact; Section 106 finding of no adverse effect; project-level air quality conformity; and Finding of No Significant Impact (FONSI), dated September 28, 2012. Supporting documentation: Environmental Assessment, dated June 4, 2012.

4. Project name and location: Dan Ryan Track Renewal and Station Improvements Project, Chicago, IL. Project sponsor: Chicago Transit Authority (CTA). Project description: CTA intends to make track and station improvements along the Dan Ryan Branch of the Red Line, including the replacement of approximately 10.2 miles of double-track alignment between the 16th Street subway portal and 95th Street. Station work includes accessibility upgrades and routine maintenance. Service on the Dan Ryan Branch will be suspended for a five-month period in 2013 during the work period. Final agency actions: No use of Section 4(f) resources; Section 106 finding of no historic properties affected; and Finding of No Significant Impact (FONSI), dated September 18, 2012. Supporting documentation: Environmental Assessment, dated August 21, 2012.

Issued on: October 16, 2012.
Lucy Garliauskas,
Associate Administrator for Planning and Environment, Washington, DC.

[FR Doc. 2012-25910 Filed 10-19-12; 8:45 am]

BILLING CODE P